NATIONAL AERONAUTICS AND SPACE ADMINISTRATION

[Notice: (17-011)]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation and Engineering (TI&E) Committee of the NASA Advisory Council (NAC). This committee reports to the NAC.

DATES: Tuesday, March 28, 2017, 8:00 a.m.-5:00 p.m., Local Time.

ADDRESSES: NASA Headquarters, Room MIC 3A/B, 300 E Street SW., Washington, DC 20546.

FOR FURTHER INFORMATION CONTACT: Mr. Mike Green, Executive Secretary, NAC TI&E Committee, NASA Headquarters, Washington, DC 20546, (202) 358-4710, or g.m.green@nasa.gov.

SUPPLEMENTARY INFORMATION: The meeting will be open to the public up to the capacity of the room. This meeting is also available telephonically and by WebEx. You must use a touch-tone phone to participate in this meeting. Any interested person may call the USA toll-free conference number 1-844-467-6272, and then the numeric passcode: 102421 followed by the # sign. To join via WebEx, the link is https://nasa.webex.com/, the meeting number is 990 061 454, and the password is “Technology17!” (case sensitive).

The agenda for the meeting includes the following topics:

—Space Technology Mission Directorate (STMD) Update

—Update on STMD Strategic Implementation Plan

—NASA's Barriers to Innovation and Chief Technologist Update

—Space Technology Research Institutes Overview

—Small Spacecraft Technology Study Final Report

—Entry, Descent, and Landing Update

Attendees will be requested to sign a register and to comply with NASA Headquarters security requirements, including the presentation of a valid picture ID to Security before access to NASA Headquarters. Due to the Real ID Act, Public Law 109-13, any attendees with driver's licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: Maine, Minnesota, Missouri, Montana, and Washington. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status 3 working days in advance. Information should be sent to Ms. Anyah Dembling via email at anyah.dembling@nasa.gov. It is imperative that the meeting be held on these dates to the scheduling priorities of the key participants.

Patricia D. Rausch,
Advisory Committee Management Officer, National Aeronautics and Space Administration.

[FR Doc. 2017-04464 Filed 3-7-17; 8:45 am]

BILLING CODE 7510-13-P